DEPARTMENT OF COMMERCE

Bureau of Industry and Security

15 CFR Part 738

[Docket No. 240503-0126]

RIN 0694-AJ58

Export Control Revisions for Australia, United Kingdom, United States (AUKUS) Enhanced Trilateral Security Partnership; Correction

AGENCY: Bureau of Industry and Security, Department of Commerce.

ACTION: Correcting amendment.

SUMMARY: On April 19, 2024, BIS published in the Federal Register an interim final rule (IFR), “Export Control Revisions for Australia, United Kingdom, United States (AUKUS) Enhanced Trilateral Security Partnership.” The April 19 IFR removed license requirements, expanded the availability of license exceptions, and reduced the scope of end-use and end-user-based license requirements for exports, reexports, and transfers (in-country) to or within Australia and the United Kingdom (UK) to enhance technological innovation among the three countries and support the goals of the AUKUS Trilateral Security Partnership. This correction revises a footnote included in the April 19 IFR to add greater specificity for the Export Control Classification Numbers (ECCN) referenced, so only portions of those 0x5zz ECCNs in the footnote that were previously controlled for national security column 1 (NS1) or regional stability column 1 (RS1) reasons for control for the destinations of Australia and the United Kingdom will continue to require a license to Australia and the United Kingdom based on the license requirements specified in this footnote.

DATES:

Effective date: This rule is effective May 6, 2024.

Comment due date: Comments for the correction in this rule must be received by BIS no later than June 3, 2024.

ADDRESSES: Comments on this rule may be submitted to the Federal rulemaking portal (www.regulations.gov). The regulations.gov ID for this rule is: BIS-2024-0019. Please refer to RIN 0694-AJ58 in all comments.

FOR FURTHER INFORMATION CONTACT: For questions on this rule, contact Philip Johnson at RPD2@bis.doc.gov or (202) 482-2440.

SUPPLEMENTARY INFORMATION:

Background

On April 19, 2024, BIS published in the Federal Register the interim final rule (IFR), “Export Control Revisions for Australia, United Kingdom, United States (AUKUS) Enhanced Trilateral Security Partnership” (89 FR 28594). This correction makes corrections to footnote 9 of the April IFR for the entries for Australia and the UK, for consistency with the description of the regulatory changes included in the April 19 IFR.

BIS noted in the April 19 IFR that one particular license requirement remained unchanged as a result of that rule. Under the EAR, firearms-related items and other CC controlled items in ECCNs 0A501 (except 0A501.y), 0A502, 0A503, 0A504, 0A505.a, .b, and .x, 0A981, 0A982, 0A983, 0D501, 0D505, 0E501, 0E502, 0E504, 0E505, and 0E982 continue to require a license when destined to and among the UK and Australia. That license requirement mirrors the license requirement for firearms-related items in ECCNs 0A501 (except 0A501.y), 0A502, 0A504 (except 0A504.f), and 0A505 (except 0A505.d) destined to Canada.

Prior to the April 19 IFR, license requirements for these items to the UK and Australia were implemented through NS1/RS1 reasons for control. Since these license requirements were removed for the UK and Australia in the April 19 IFR, that IFR also added a footnote 9 to the Commerce Country Chart for the UK and Australia, which indicated that a license is still required for these 0x5zz firearms-related items to those two countries. The April 19 IFR specified that the license requirement specified in footnote 9 did not change the scope of the license requirements for these items to the UK and Australia that applied prior to the effective date of that IFR.

Corrections

This correction revises footnote 9 to the Commerce Country Chart in supplement no. 1 to part 738, which was added in the April 19 IFR, so that only those portions of 0x5zz ECCNs referenced in footnote 9 that were previously controlled for NS1 or RS1 reasons for control for the destinations of Australia and the UK will continue to require a license to Australia and the UK based on the license requirement specified in this revised footnote.

In the Commerce Country Chart, this correction revises six of the ECCNs (0A502, 0A504, 0A505, 0D501, 0D505, and 0E505) and removes one ECCN (0E502) referenced in footnote 9. This greater specificity for the portions of the ECCNs referenced in footnote 9 is needed to ensure that the license requirement specified in footnote 9 does not change the scope of the license requirements for these items to the UK and Australia that applied prior to the effective date of the April 19 IFR. This correction makes the following corrections to the ECCNs referenced in footnote 9:

ECCN 0A502. For the reference for 0A502, this correction specifies that the license requirement in footnote 9 is limited to 0A502 for shotguns with a barrel length less than 18 inches (45.72 cm).

ECCN 0A504. For the reference for 0A504, this correction specifies that the license requirement in footnote 9 is limited to 0A504.i commodities.

ECCN 0A505. For the reference for 0A505, this correction removes the reference to 0A505.b because the license requirement under footnote 9 only extends to 0A505.a and .x.

ECCN 0D501. For the reference for 0D501, this correction adds the parenthetical phrase “(except “software” for commodities in ECCN 0A501.y or “equipment” in ECCN 0B501 for commodities in ECCN 0A501.y)” to specify that this “software” or “equipment” does not require a license under footnote 9.

ECCN 0D505. For the reference for 0D505, this correction specifies that the license requirement in footnote 9 for 0D505 is limited to “software” for commodities in ECCN 0A505.a and .x and “equipment” in ECCN 0B505.a .and .x.

ECCN 0E502. For the reference for 0E502, this correction removes this ECCN from footnote 9 because none of the technology under this ECCN formerly required a license to Australia or the United Kingdom for NS1 or RS1 reasons for control.

ECCN 0E505. For the reference for 0E505, this correction specifies that the license requirement in footnote 9 for 0E505 is limited to “technology” for “development,” “production,” operation, installation, maintenance, repair, overhaul, or refurbishing commodities in 0A505.a and .x; for “equipment” for those commodities in 0B505; and for “software” for that equipment and those commodities in 0D505.

Export Control Reform Act of 2018

On August 13, 2018, the President signed into law the John S. McCain National Defense Authorization Act for Fiscal Year 2019, which included the Export Control Reform Act of 2018 (ECRA), 50 U.S.C. 4801-4852. ECRA, as amended, provides the legal basis for BIS's principal authorities and serves as the authority under which BIS issues this rule.

Rulemaking Requirements

1. This correction has not been designated a “significant regulatory action” under Executive Order 12866.

2. Notwithstanding any other provision of law, no person may be required to respond to, or be subject to a penalty for failure to comply with, a collection of information, subject to the requirements of the Paperwork Reduction Act of 1995 (44 U.S.C. 3501 et seq.) (PRA), unless that collection of information displays a currently valid Office of Management and Budget (OMB) Control Number. This regulation involves a collection currently approved by OMB under control number 0694-0088, Simplified Network Application Processing System.

3. This rule does not contain policies with federalism implications as that term is defined under Executive Order 13132.

4. Pursuant to Section 1762 of ECRA (50 U.S.C. 4821), this action is exempt from the Administrative Procedure Act (APA) (5 U.S.C. 553) requirements for notice of proposed rulemaking, opportunity for public participation and delay in effective date. Additionally, this rule is exempt from the ordinary rulemaking requirements of the APA pursuant to 5 U.S.C. 553(a)(1) as a military or foreign affairs function of the United States Government.

5. Because neither the APA nor any other law requires that notice of proposed rulemaking and an opportunity for public comment be given for this rule, the analytical requirements of the Regulatory Flexibility Act (5 U.S.C. 601 et seq.) are not applicable. Accordingly, no Final Regulatory Flexibility Analysis is required and none has been prepared.

List of Subjects in 15 CFR Part 738

Administrative practice and procedure, Exports, Reporting and recordkeeping requirements.

Accordingly, part 738 of the Export Administration Regulations (15 CFR parts 730 through 774) is amended as follows:

PART 738—COMMERCE CONTROL LIST OVERVIEW AND THE COUNTRY CHART

1. The authority citation for 15 CFR part 738 continues to read as follows:

Authority: 50 U.S.C. 4801-4852; 50 U.S.C. 4601 et seq.; 50 U.S.C. 1701 et seq.; 10 U.S.C. 8720; 10 U.S.C. 8730(e); 22 U.S.C. 287c; 22 U.S.C. 2151 note; 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

2. In supplement no. 1 to part 738, revise footnote 9 to read as follows:

Supplement No. 1 to Part 738—Commerce Country Chart

* * * * *

⁹ A license is required to these destinations for items in the following ECCNs: 0A501 (except 0A501.y), 0A502 for shotguns with a barrel length less than 18 inches (45.72 cm), 0A503, 0A504.i, 0A505.a, and .x, 0D501 (except “software” for commodities in ECCN 0A501.y or “equipment” in ECCN 0B501 for commodities in ECCN 0A501.y), 0D505 for “software” for commodities in ECCN 0A505.a and .x and “equipment” in ECCN 0B505.a .and .x, 0E501, 0E504, and 0E505 for “technology” for “development,” “production,” operation, installation, maintenance, repair, overhaul, or refurbishing commodities in 0A505.a and .x; for “equipment” for those commodities in 0B505; and for “software” for that “equipment” and those commodities in 0D505.

Thea D. Rozman Kendler,
Assistant Secretary for Export Administration.

[FR Doc. 2024-10079 Filed 5-6-24; 8:45 am]

BILLING CODE 3510-33-P